DEPARTMENT OF LABOR

Office of the Secretary

HIV/AIDS Global Workplace Prevention and Education Program

AGENCY: Bureau of International Labor Affairs, Department of Labor.

ACTION: Notice of availability of funds and solicitation for cooperative agreement applications (SGA 01-05).

SUMMARY: This notice contains all of the necessary information and forms needed to apply for cooperative agreement funding. The U.S. Department of Labor, Bureau of International Labor Affairs (ILAB), will award funds in one or more cooperative agreements to an organization or organizations to develop and implement HIV/AIDS workplace education programs in one or more countries. ILAB is seeking applications from qualified organizations for the implementation of workplace prevention education for HIV/AIDS, capacity building activities for government, business, and labor to respond to the pandemic outbreak, and the development of workplace policy statements addressing the issue of stigma and discrimination against people living with HIV/AIDS.

DATES: The closing date for receipt of applications is July 27, 2001. Applications must be received by 4:45 p.m. (Eastern Daylight Savings Time) at the address below. No exceptions to the mailing and hand-delivery conditions set forth in this notice will be granted. Applications that do not meet the conditions set forth in this notice will not be honored. Telefacsimile (FAX) applications will not be accepted.

ADDRESSES: Application forms will not be mailed. They are published in the Federal Register, which may be obtained from your nearest U.S. Government office or public library. Applications must be hand-delivered or submitted by mail to: U.S. Department of Labor, Procurement Services Center, 200 Constitution Avenue, NW., Room N-5416, Attention: Lisa Harvey, Reference: SGA 01-05, Washington, DC 20210.

FOR FURTHER INFORMATION CONTACT: Questions concerning this solicitation may be sent to Lisa Harvey at the following e-mail address: harvey-lisa@dol.gov. All inquiries should reference SGA 01-05.

SUPPLEMENTARY INFORMATION: The Bureau of International Labor Affairs (ILAB), U.S. Department of Labor (USDOL, Department, or Grantor), announces the availability of funds to be granted by cooperative agreement to one or more qualifying organizations (other than profit-making organizations) for the purpose of reducing the spread of human immunodeficiency virus/acquired immune deficiency syndrome (HIV/AIDS) and eliminating discrimination in employment against individuals infected with HIV/AIDS through a global workplace prevention and education program. The cooperative agreement(s) are to be actively managed by the Office of Foreign Relations (OFR), ILAB, to assure achievement of the stated goal. Applicants are encouraged to be creative in proposing cost-effective interventions that will have a demonstrable impact on the HIV/AIDS infection rate and the level of discrimination in employment against individuals infected with HIV/AIDS.

I. Background and Program Scope

A. The International HIV/AIDS Pandemic

According to the United Nations, the total number of people living with HIV/AIDS in 2000 was 36.1 million, with two-thirds of those infected in sub-Saharan Africa. There were more than 5.3 million newly infected persons in 2000. The total number of AIDS-related deaths in 2000 was 3 million. AIDS is the number one cause of death in Africa and ranks fourth on a global scale. Although HIV/AIDS was initially viewed as strictly a health crisis, it is now widely recognized to have economic implications as well.

Recent studies on HIV/AIDS in the workforce warn of catastrophic consequences of HIV/AIDS for workers and employers worldwide, projecting a severe decline in the size and quality of the workforce in a number of countries over the next 20 years. The most infected country populations in sub-Saharan Africa could lose 29-35% of their labor force by 2020. Due to the disproportionate effect of HIV/AIDS on the 15-49 year age group, the most economically active segment of society is affected most severely. This fact has serious consequences for governments, employers, and workers alike. Moreover, the stigma and discrimination that surround those suffering from the disease contribute to the high prevalence rate by perpetuating misinformation and preventing people from seeking help. As a result, the World Bank estimates that in a typical sub-Saharan African country, with an HIV/AIDS prevalence rate of 20%, the average rate of GDP growth would be 2.6% lower. After a 20-year period, GDP in those same highly infected countries would be 67% less.

B. USDOL Global HIV/AIDS Workplace Education

The OFR carries out a worldwide international technical assistance program in support of three objectives: First, Expanding Economic Opportunity and Income Security for Workers; second, Protecting the Basic Rights of Workers; and third, Reducing the Prevalence of HIV/AIDS through Workplace Education. This SGA seeks one or more eligible and qualified organizations to develop and implement the projects supporting objective three, Reducing the Prevalence of HIV/AIDS through Workplace Education. In FY 2001, OFR is planning to initiate approximately ten (10) workplace education projects in all regions of the world, with a particular emphasis on Africa, the Americas, Asia, and Eastern Europe. The tasks required of the recipient organization(s) to carry out this work will involve project design, implementation, monitoring, and reporting in one or more countries.

II. Authority

ILAB is authorized to award and administer this program by the Department of Labor Appropriations Act, 2001, Public Law 106-554, 114 Stat. 2763A-10 (2000).

III. Application Process

A. Eligible Applicants

Any organization (other than a profit-making organization), capable of successfully developing and implementing a HIV/AIDS workplace education program to reduce the spread of HIV/AIDS and help eliminate the discrimination in employment among individuals infected with HIV/AIDS is eligible for a cooperative agreement. The capability of an applicant to perform necessary aspects of this solicitation will be determined under Section V.B. Rating Criteria.

Please note that eligible cooperative agreement applicants must not be classified under the Internal Revenue Code as a Section 501(c)(4) entity. See 26 U.S.C. 506(c)(4). According to Section 18 of the Lobbying Disclosure Act of 1995, an organization, as described in Section 501(c)(4) of the Internal Revenue Code of 1986, that engages in lobbying activities will not be eligible for the receipt of federal funds constituting an award, grant, or loan.

B. Submission of Applications

One (1) ink-signed original, complete application plus five (5) copies of Part II (the technical proposal), must be submitted to the U.S. Department of Labor, Procurement Services Center, 200 Constitution Avenue, NW., Room N-5416, Washington, DC 20210, not later than 4:45 p.m. EDT, July 27, 2001.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical proposal that demonstrates capabilities in accordance with the Statement of Work and the selection criteria. The applicant is advised that the Proposal must be based on the example listed in the Review Criteria.

To be considered responsive to this solicitation, the application must consist of the above-mentioned separate sections not to exceed 30 single-sided (8½″ × 11″), double-spaced, 10 to 12 pitch typed pages. Any proposals that do not conform to these standards may be deemed non-responsive to this solicitation and may not be evaluated. Standard forms and attachments are not included in page limit.

The individual signing the SF 424 on behalf of the applicant must be authorized to bind the applicant.

Each proposal must include a table of contents and an abstract summarizing the proposal in not more than two (2) pages. (The table of contents and abstract do not count against the page limitation for the technical proposal.)

C. Acceptable Methods of Submission

Applications may be hand-delivered or mailed. Hand-delivered applications must be received by the Procurement Services Center by the date and time specified. Any application received at the Procurement Services Center after 4:45 p.m. EDT, July 27, 2001 will not be considered unless it is received before an award is made and:

a. It was sent by registered or certified mail not later than the fifth calendar day before July 27, 2001;

b. It is determined by the Government that the late receipt was due solely to mishandling by the Government after receipt at the U.S. Department of Labor at the above address; or

c. It was sent by U.S. Postal Service Express Mail Next Day Service-Post Office to Addressee, not later than 5:00 p.m. EDT at the place of mailing two working days, excluding weekends and Federal holidays, before July 27, 2001.

The only acceptable evidence to establish the date of mailing of a late application sent by registered or certified mail is the U.S. Postal Service postmark on the envelope or wrapper and on the original receipt from the U.S. Postal Service. If the postmark is not legible, an application received after the above closing time and date must be processed as if mailed late. “Postmark” means a printed, stamped, or otherwise placed impression (not a postage meter machine impression) that is readily identifiable without further action as having been applied and affixed by an employee of the U.S. Postal Service on the date of mailing. Therefore, applicants must request that the postal clerk place a legible hand cancellation bull's-eye postmark on both the receipt and the wrapper or envelope.

The only acceptable evidence to establish the date of mailing of a late application sent by U.S. Postal Service Mail Next Day Service-Post Office to Addressee is the date entered by the post office receiving clerk on the “Express Mail Next Day Service-Post Office to Addressee” label and the postmark on the envelope or wrapper and on the original receipt from the U.S. Postal Service. “Postmark” has the same meaning as defined above. Therefore, applicants must request that the postal clerk place a legible hand cancellation bull's-eye postmark on both the receipt and the envelope or wrapper.

The only acceptable evidence to establish the time of receipt of a hand-delivered application at the U.S. Department of Labor is the date/time stamp of the Procurement Services Center on the application wrapper or other documentary evidence of receipt maintained by that office.

Applications sent by E-mail, telegram, or telefacsimile (FAX) will not be accepted.

D. Funding Levels

Approximately $9 million is available for this program, to fund activities in approximately ten (10) countries. We will award as many cooperative agreements as necessary to accomplish the Department's goals.

E. Length of Cooperative Agreement Period

The performance period for the cooperative agreement(s) awarded under this SGA is four (4) years. Each applicant must reflect in its application the intention to begin operation no later than September 2001.

IV. Requirements

A. Statement of Work

Applicants must propose work in all of the following areas in each country or countries it proposes to operate a project (or projects):

1. Develop technical assistance programs to assist the government(s) of one or more developing countries, in collaboration with business and workers' organizations, and other relevant community organizations, in activities related to implementation, promotion, and sustainability of HIV/AIDS workplace prevention and education programs. Participate in design missions to develop strategy for project designs. Provide training, advisory and consultative services, and overall coordination and delivery of technical assistance.

2. Recognizing that HIV/AIDS adversely impacts economic development and threatens human rights and equality in the workplace, the emphasis of the program must be on the following:

a. Developing innovative strategies for involving government, employers' and workers' organizations, and nongovernmental organizations, as appropriate, in the development and implementation of projects to promote and sustain workplace-based HIV/AIDS prevention and education programs;

b. Developing relevant information, education, and communication (IEC) materials aimed at increasing awareness at the local, national, and international level for the purpose of eliminating the stigma and discrimination associated with HIV/AIDS;

c. Evaluating projects, promoting and supporting best practices and replicable programs as well as developing plans for future strategies;

d. Identifying national policy, programs, and measures relating to discriminatory practices in project countries and developing workplace policy statements; and

e. Monitoring, reporting, and self-evaluation: regularly monitoring project outcomes and reporting to ILAB on project performance and conducting periodic self-evaluations to ensure that the project objectives are met.

B. Deliverables

Unless otherwise indicated, the applicant must submit copies of all required reports to ILAB by the specified due dates. Other documents, such as project designs, are to be submitted by mutually agreed-upon deadlines.

1. Trip Reports. Within ten (10) days of the conclusion of each project design mission, a two-page trip report (exclusive of contact information) will be submitted to ILAB, including purpose of trip, places and dates, list of meetings, site visits, problems encountered, accomplishments, next steps, and an appendix of names and contact information of persons met.

2. Project Designs. The standard project document format established by ILAB will be used, and will include a background/justification section, project strategy (objectives, outputs, activities, indicators), project implementation timetable, project management organizational chart, project budget, and logical framework. The document will also include sections which cover coordination strategies, project management, and sustainability of project improvements involving government, employers' and workers' organizations as well as other nongovernmental organizations as appropriate.

3. Technical Progress Reports. The grantee(s) must furnish a typed technical report to ILAB on a quarterly basis by 30 March, 30 June, 30 September, and 31 December of each year. The grantee(s) must also furnish a separate financial report to ILAB on the same quarterly basis. The format for the technical progress report will be the standard format developed by ILAB and must contain the following information:

a. For each project objective, an accurate account of activities carried out under that objective during the reporting period;

b. An accounting of staff and any subcontractor hours expended;

c. An accounting of travel performed under the cooperative agreement during the reporting period, including purpose of trip, persons or organizations contacted, and benefits derived;

d. A description of current problems that may impede performance, and proposed corrective action;

e. For each project objective, a discussion of the work to be performed during the balance of the cooperative agreement; and

f. Aggregate amount of costs incurred during the reporting period.

4. Evaluation Plan. An evaluation plan for all projects, to be developed in collaboration with ILAB, including beginning and ending dates for projects, planned and actual dates for mid-term review, and final end of project evaluations.

5. Evaluation Reports. The grantee(s) and the Grant Officer's Technical Representative (GOTR) will determine on a case-by-case basis whether mid-term evaluations will be conducted by an internal or external evaluation team. All final evaluations will be external in nature. The GOTR must approve the mid-term evaluation before further work is done. The grantee(s) will respond to any comments and recommendations resulting from the review of the mid-term report.

C. Production of Deliverables

1. Materials Prepared and Purchased Under the Cooperative Agreement. The grantee(s) must submit to ILAB all media-related and educational materials developed under this cooperative agreement for use in this project before they are reproduced, published, or used. The grantee(s) must consult with ILAB to ensure that materials are compatible with ILAB materials relating to the program, i.e., public relations material such as video and web site. ILAB considers brochures, pamphlets, videotapes, slide-tape shows, curricula, and any other training materials used in the program, educational materials. ILAB will review materials for technical accuracy. ILAB will also review training curricula and purchased training materials for accuracy before they are used. The grantee(s) must obtain prior approval from the Grant Officer for all materials developed or purchased under this cooperative agreement.

2. Provide ILAB materials that you publish, print or reproduce. All materials produced by grantee(s) must be provided to ILAB in a digital format for possible publication on the Internet by ILAB.

3. Printing and Duplicating. The grantee(s) must comply with all duplicating and printing regulations issued by the Joint Committee on Printing under the authority of 44 U.S.C. 103, 501, and 502. The term “duplicating” as used means material produced on single unit duplicating equipment not larger than 11 by 17 inches and which has a maximum image of 10¾ × 14¼ inches using direct image plates not requiring the use of negatives. The term “printing” as used must be construed to include and apply to the processes of composition, platemaking, presswork, binding, and microform.

Under this cooperative agreement, the grantee(s) may duplicate up to a maximum of 5,000 copies of one page or 25,000 copies in the aggregate of multiple pages.

The grantee(s) must not use funds under this cooperative agreement to provide duplicating in excess of the quantities stated above nor provide printing without the written authorization of the Joint Committee on Printing. Such authorization must be requested and obtained from the Grant Officer through the Departmental Printing Officer. Nothing in this clause preludes the procurement of writing, editing, preparation of manuscript copy, or preparation of related illustrative material.

4. Acknowledgment of USDOL Funding. In all circumstances, the following must be displayed on printed materials:

“Preparation of this item was funded by the United States Department of Labor under Cooperative Agreement No. [insert the appropriate cooperative agreement number].

When issuing statements, press releases, requests for proposals, bid solicitations, and other documents describing projects or programs funded in whole or in part with Federal money, all grantees receiving Federal funds must clearly state:

a. The percentage of the total costs of the program or project which will be financed with Federal money;

b. The dollar amount of Federal funds for the project or program; and

c. The percentage and dollar amount of the total costs of the project or program that will be financed by non-governmental sources.

In consultation with ILAB, identification of USDOL's role will be determined to be one of the following:

a. The USDOL logo may be applied to USDOL-funded material prepared for world-wide distribution, including posters, videos, pamphlets, research documents, national survey results, impact evaluations, best practice reports, and other publications of global interest. The grantee(s) will consult with USDOL on whether the logo should be used on any such items prior to final draft or final preparation for distribution. In no event will the USDOL logo be placed on any item until USDOL has given the grantee written permission to use the logo, after obtaining appropriate internal USDOL approval for use of the logo on the item. b. If the ILAB determines the logo is not appropriate and does not give written permission, the following notice must appear on the document:

“This document does not necessarily reflect the views or policies of the U.S. Department of Labor, nor does mention of trade names, commercial products, or organizations imply endorsement by the U.S. Government.”

D. Administrative Requirements

1. General. Grantee organizations will be subject to applicable Federal laws (including provisions of appropriations law) and the applicable Office of Management and Budget (OMB) Circulars. Determinations of allowable costs will be made in accordance with the applicable Federal cost principles, i.e., Non-Profit Organizations—OMB Circular A-122. The cooperative agreement(s) awarded under this SGA will be subject to the following administrative standards and provisions, if applicable:

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

2. Subgrants/Contracts. Subgrants and contracts must be awarded in accordance with 29 CFR 95.40.

3. Key Personnel. The applicant must list the individual(s) who have been designated by the grantee as having primary responsibility for the conduct and completion of all work in project(s) it proposes. The grantee agrees to inform the GOTR whenever is appears impossible for one or more of these individual(s) to continue work on the project as planned. The grantee may nominate substitute personnel for approval of the GOTR; however, the grantee must obtain prior approval from the Grant Officer for all key personnel. If the Grant Officer determines not to approve the personnel change, he/she reserves the right to terminate the cooperative agreement.

4. Encumbrance of Cooperative Agreement Funds. Cooperative agreement funds may not be encumbered/obligated by the grantee before or after the cooperative agreement period of performance. Encumbrances/obligations outstanding as of the end of the cooperative agreement period may be liquidated (paid out) after the end of the cooperative agreement period. Such encumbrances/obligations may involve only commitments for which a need existed during the grant period and which are supported by approved contracts, purchase orders, requisitions, invoices, bills, or other evidence of liability consistent with the grantee's purchasing procedures and incurred within the cooperative agreement period. All encumbrances/obligations incurred during the cooperative agreement period must be liquidated within 90 days after the end of the grant period, if practicable.

5. Site Visits. The grantor, through its authorized representatives, has the right, at all reasonable times, to make site visits to review project accomplishments and management control systems and to provide such technical assistance as may be required. If the grantor makes any site visit on the premises of the grantee or a subgrantee/contractor under this grant, the grantee must provide and must require its subgrantees/contractors to provide all reasonable facilities and assistance for the safety and convenience of the Government representatives in the performance of their duties. All site visits and evaluations must be performed in such a manner as will not unduly delay the work.

V. Review and Selection of Applications for Grant Award

A. The Review Process

We will screen all applications to determine whether all required elements are present and clearly identifiable. Each complete application will be objectively rated by a technical panel against the criteria described in this announcement. The panel recommendations to the Grant Officer are advisory in nature. The Grant Officer may elect to select one or more grantees on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the Government, considering factors such as: panel findings, geographic presence of the applicants, and the availability of funds. The Grant Officer's determination for award under this SGA 01-05 is final.

Notice: Selection of an organization as a cooperative agreement recipient does not constitute approval of the cooperative agreement application as submitted. Before the actual cooperative agreement is awarded, the Grant Officer will enter into negotiations concerning such items as program components, funding levels, and administrative systems. If the negotiations do not result in an acceptable submission, the Grant Officer reserves the right to terminate the negotiation and decline to fund the proposal.

B. Rating Criteria and Selection

The technical panel will review grant applicants against the criteria listed below on the basis of 100 points with up to additional 5 points available for non-federal or leveraged resources.

The criteria are presented in the order of emphasis that they will receive.

1. Approach, Understanding of the Issue, and Budget Plan (40 points).

a. Overview. This section of the proposal must explain:

(1) The applicant's proposed method for performing all the specific work requirements presented in this solicitation for project(s) which the applicant proposes;

(2) The expected outcomes over the period of performance for each of the tasks; and

(3) The applicant's approach for producing all required deliverables.

The applicant must describe in detail the proposed approach to comply with each requirement, including all tasks, methods to be utilized, and scheduling of time and personnel/staff. Also, the applicant must explain the rationale for using this approach. In addition, this section of the proposal must demonstrate the applicant's thorough knowledge and understanding of the impact of HIV/AIDS on the workplace, best-practice solutions to the problem, and work that has been done in the field as applied to country or countries to which the applicant proposes as a project (or projects).

b. Workplan. The applicant must submit a workplan for the country or countries in which it proposes to operate a project (or projects) that lists the immediate objectives, activities, and outputs during the life of the project, starting with the execution of the cooperative agreement and ending with the final report. Applicants may propose one or more countries as projects, up to ten.

c. Technical Sample. We plan to implement approximately ten (10) projects globally. The applicant must create one (1) model workplan based on Ethiopia. For this competition, Ethiopia is merely an example of a country in which we might fund a project under this announcement. At this time, we have no plans to fund a project in Ethiopia, but we reserve the right to fund a project in Ethiopia under this announcement. The applicant must address the following points:

(1) Describe the use of existing or potential infrastructure and the use of qualified personnel, including qualified nationals to implement the project. The applicant also must include a project organizational chart, demonstrating management structure, key personnel positions, and indicating proposed links with Government, business leaders, trade unions, and local health organizations. Applicants will not receive any points for actual communications with any person(s) or entities in Ethiopia or for the creation of an infrastructure in Ethiopia for this competitive grant process.

(2) Develop a list of activities and explain how each relates to the overall objective of reducing the prevalence of HIV/AIDS through workplace based education.

(3) Explain how appropriate information, education and communication materials will be developed.

(4) Demonstrate how it will review laws on discrimination and work with the business community, trade unions and the government to develop workplace policy statements aimed at addressing the stigma and discrimination associated with HIV/AIDS.

(5) Demonstrate how it would systematically report on project performance to measure the achievement of the project objective(s).

(6) Demonstrate how it would build local capacity to ensure that project efforts to reduce the prevalence of HIV/AIDS infection and workplace discrimination associated with HIV/AIDS are sustained after completion of the project.

(7) Develop a country-specific budget for the project in Ethiopia. NOTE: Applicants will not be evaluated on the size of the budget, but on the efficient allocation of resources and the priorities the applicant assigns to various expenditures.

d. Budget Plan. This section of the proposal must contain the applicant's budget plan for the project(s) proposed, explaining the costs for performing all of the requirements presented in this solicitation and for producing all required reports and other deliverables presented in this solicitation; costs must include labor, equipment, travel, and other related costs.

e. Management Plan. This section also must include a management and staff loading plan. The management plan must include the following:

(1) A project organization chart and accompanying narrative which differentiates between elements of the Applicant's staff and subcontractors or consultants who will be retained;

(2) A description of the functional relationship between elements of the project's organization; and

(3) The identity of the individual responsible for project management and the lines of authority between this individual and other elements of the project.

f. Staff Loading Plan. The staff loading plan must identify all key tasks and the person-days required to complete each task. Labor estimates for each task must be broken down by individuals assigned to the task, including subcontractors and consultants. All key tasks must be charted to show time required to perform them by months or weeks.

(1) Information provided on the experience and educational background of personnel must indicate the following:

(a) The educational background and experience of all staff to be assigned to the project.

(b) The identity of key staff assigned to the project. “Key staff” are personnel who are essential to the successful operation of the project and completion of the proposed work and, therefore, may not be replaced or have their hours reduced without the approval of the Grant Officer.

(c) The special capabilities of staff that demonstrate prior experience in organizing, managing and performing similar efforts.

(d) The current employment status of staff and availability for this project. The applicant must also indicate whether the proposed work will be performed by persons currently employed or is dependent upon planned recruitment or subcontracting.

This section will be evaluated in accordance with applicable Federal laws and regulations. The budget must comply with Federal cost principles (which can be found in the applicable OMB Circulars).

2. Experience and Qualifications of the Organization (35 points).

a. The organization applying for the award must have experience in or the capability of working directly with government Ministries, employers' organizations, and trade unionists; analyzing labor law relating to discrimination; developing workplace policy statements addressing issues relating to discrimination; and implementing workplace education programs either in the country or countries in which it proposes project(s) or that it has broad experience of working with such entities.

b. The capability of the organization may be demonstrated by one or more staff members assigned to oversee the project with experience in the following areas:

(1) Workplace safety and health programs;

(2) Labor law and workplace policy statements;

(3) The capacity to develop direct access to Ministries of Labor, employers' organizations, and trade union representatives or comparable entities.

c. The organization must also demonstrate either that it has an international system of operations either by affiliates or by agreement in the regions identified in section I.B, above or that it has an effective system of operations in the country (or countries) for which it proposes its project(s). These contacts must enable the organization to demonstrate that it can perform the above-mentioned work in the country (or countries) in which it proposes to operate its proposed project(s).

d. The proposal must include information regarding its previous grants, contracts or cooperative agreements. This information must include:

(1) The organization for whom the work was done;

(2) A contact person in that organization with his/her current phone number;

(3) The dollar value of the grant, contract or cooperative agreement for the project(s);

(4) The time frame and professional effort involved in the project(s);

(5) A brief summary of the work performed; and

(6) A brief summary of accomplishments.

3. Experience and Qualifications of Key Personnel (25 points). This section of the proposal must include sufficient information for judging the quality and the competence of key staff proposed to be assigned to the project(s) proposed to assure that they meet the required qualifications. Successful performance of the proposed work depends heavily on the qualifications of the individuals committed to the project. Accordingly, in our evaluation of the applicant's proposal, we will place considerable emphasis on the applicant's commitment of key personnel qualified for the work involved in accomplishing the assigned tasks.

The following information must be furnished:

a. The applicant must designate a Program Director to oversee the project(s) and other key personnel to perform the requirements for the program. The Program Director must have a minimum of three years of professional experience with employment discrimination law and HIV/AIDS workplace-based preventive education or related workplace safety and health education projects.

b. An organizational chart showing the applicant's proposed organizational structure for performing task requirements for the project(s) proposed, along with a description of the roles and responsibilities of all key personnel proposed for this project(s).

c. A resume for each key personnel to be assigned to the program. At a minimum, each resume must include: the individual's current employment status and previous work experience, including position title, duties performed, dates in position, employing organizations and educational background. Duties must be clearly defined in terms of role performed, i.e., manager, team leader, consultant, etc. (Resumes must be included as attachments which do not count against the page limitation.)

d. The current employment status of key personnel proposed for work under the cooperative agreement, i.e., whether personnel are currently employed by the organization or whether their employment depends upon planned recruitment or subcontracting. Note that the key management and professional technical staff members comprising the applicant's proposed team must be individuals who have prior experience with organizations working in similar efforts, and must be fully qualified to perform work specified in the Statement of Work. Where subcontractors or outside assistance are proposed, organizational control must be clearly delineated to ensure responsiveness to the needs of the USDOL.

4. Leveraging of Federal Funding (5 points). We will give up to five (5) additional rating points to proposals which include non-Federal resources that expand the dollar amount, size and scope of the proposal. The applicant may include any leveraging or co-funding anticipated. To be eligible for additional points in the criterion, the applicant must list the source(s) of funds, the nature, and activities anticipated with these funds under this cooperative agreement, and any partnerships, linkages or coordination of activities, and/or cooperative funding.

Signed at Washington, DC, this 22nd day of June, 2001.
Lawrence J. Kuss,
Grant Officer.

BILLING CODE 4510-28-P

[FR Doc. 01-16131 Filed 6-26-01; 8:45 am]

BILLING CODE 4510-28-C